DEPARTMENT OF EDUCATION

National Institute on Disability and Rehabilitation Research

AGENCY: Office of Special Education and Rehabilitative Services, Department of Education.

ACTION: Notice of proposed priorities.

SUMMARY: The Assistant Secretary for Special Education and Rehabilitative Services proposes funding priorities under the Rehabilitation Research and Training Centers (RRTC) Program for up to four awards for the National Institute on Disability and Rehabilitation Research (NIDRR) for Fiscal Year (FY) 2003 and later years. We take this action to focus research attention on areas of national need. We intend these priorities to improve the rehabilitation services and outcomes for individuals with disabilities.

DATES: We must receive your comments on or before June 9, 2003.

ADDRESSES: Address all comments about these proposed priorities to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880.

If you use a telecommunications device for the deaf (TDD), you may call the TDD number at (202) 205-4475 or via the Internet: donna.nangle@ed.gov.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these priorities in Room 3412, Switzer Building, 330 C Street, SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice published in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitive priority over an application of comparable merit that does not meet the competitive priority (34 CFR 75.105(c)(2)(ii)).

Invitational priority: Under an invitational priority, we are particularly interested in applications that meet the invitational priority. However, we do not give an application that meets the priority a competitive or absolute preference over other applications (34 CFR 75.105(c)(1)).

Note: NIDRR supports the goals of President Bush's New Freedom Initiative (NFI). The NFI can be accessed on the Internet at the following site: http://www.whitehouse.gov/news/freedominitiative/freedominitiative.html.

These proposed priorities are in concert with NIDRR's Long-Range Plan (the Plan). The Plan is comprehensive and integrates many issues relating to disability and rehabilitation research topics. While applicants will find many sections throughout the Plan that support potential research to be conducted under these proposed priorities, a specific reference is included for the topic presented in this notice. The Plan can be accessed on the Internet at the following site: http://www.ed.gov/offices/OSERS/NIDRR/Products.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Rehabilitation Research and Training Centers

We may make awards for up to 60 months to institutions of higher education or providers of rehabilitation or other appropriate services. RRTCs conduct coordinated and integrated advanced programs of research targeted toward the production of new knowledge, to improve rehabilitation methodology and service delivery systems, alleviate or stabilize disability conditions, or promote maximum social and economic independence for persons with disabilities. Additional information on the RRTC program can be found at: http://www.ed.gov/officers/OSERS/NIDRR/Programs/res_program.html#RRTC.

General Requirements of Rehabilitation Research and Training Centers

RRTCs must:

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties;

• Serve as centers for national excellence in rehabilitation research for individuals with disabilities, their representatives, providers, and other interested parties; and

• Involve individuals with disabilities and individuals from minority backgrounds as recipients or research as well as training.

The Department is particularly interested in ensuring that the expenditure of public funds is justified by the execution of intended activities and the advancement of knowledge and, thus, has built this accountability into the selection criteria. Not later than three years after the establishment of any RRTC, NIDRR will conduct one or more reviews of the activities and achievements of the Center. In accordance with the provisions of 34 CFR 75.253(a), continued funding depends at all times on satisfactory performance and accomplishment.

Priorities

Background

Community integration (CI) and independent living (IL) are at the heart of NIDRR's mission, which is to develop knowledge that will “improve substantially the options for disabled individuals to perform regular activities in the community, and the capacity of society to provide full opportunities and appropriate supports for its disabled citizens.” The Plan, which articulates this mission, emphasizes that community integration is not just about being located physically in the community; it is about full participation, independence, empowerment, choice, and control.

CI and IL are critical components of the new model of disability set forth in the Plan. This model maintains that disability is a product of an interaction between individual characteristics and the characteristics of the natural, built, cultural, and social environments. It incorporates a civil-rights model of disability.

NIDRR's focus on CI follows the stated purpose of IL programs under the Rehabilitation Act. That purpose is “to promote a philosophy of independent living, including a philosophy of consumer control, peer support, self help, self determination, equal access, and individual and system advocacy, in order to maximize the leadership, empowerment, independence, and productivity of individuals with disabilities, and the integration and full inclusion of individuals with disabilities into the mainstream of American society.”

The urgent need for CI of individuals with disabilities was made clear during Congressional passage of the Americans with Disabilities Act (ADA). Witnesses testified that when they tried to participate in community life, they experienced exclusion, derision, and a host of architectural, communication, and transportation barriers (S. Report 101-116, Committee on Labor and Human Resources report on S. 933, 101st Congress, 1989).

While great strides have been made since the passage of the ADA in 1990, much more remains to be done. In general, people with disabilities continue to live outside the mainstream of American life. They remain unnecessarily institutionalized. They have lower rates of participation in community life. They have lower educational levels and higher unemployment levels and poverty rates.

The 2000 National Organization on Disability/Lou Harris Survey on Community Integration found that 40 percent of people with severe disabilities are not at all involved in their communities; this is almost double the percentage as people without disabilities.

The NFI expands research on and access to assistive technology (AT); promotes education, homeownership, and employment opportunities for people with disabilities; and emphasizes swift implementation of the ADA and the U.S. Supreme Court's Olmstead decision. The Olmstead decision holds that title II of the ADA prohibits unjustified isolation or segregation of qualified individuals with disabilities through institutionalization. The President further issued Executive Order 13217, “Community-Based Alternatives for Individuals with Disabilities,” which requires Federal agencies to implement Olmstead.

In order to further the goals of CI and IL, NIDRR intends to fund up to four community integration-related RRTCs.

Applicants must select from the following topic areas: (a) Community Integration for Individuals with Intellectual and Developmental Disabilities; (b) Promoting Healthy Aging and Community Inclusion Among Adults with Intellectual and Developmental Disabilities; (c) Positive Behavioral Support in Community Settings; (d) Policies Affecting Families of Children with Disabilities; (e) Community Integration for People with Psychiatric Disabilities; and (f) Community-Based Substance Abuse Rehabilitation for Individuals with Disabilities.

For purposes of this priority, the definition of “Intellectual Disability” follows that of the American Association of Mental Retardation (AAMR). A person with an intellectual disability, as defined by the AMMR, must have:

(1) A significantly sub-average general IQ. The AAMR defines this as an IQ of 70 or less on a standard measure of intelligence;

(2) Limitations in two or more of the following adaptive skills: communication, self-care, home living, social skills, community use, self-direction, health and safety, functional academics, and leisure and work; and

(3) Acquired their condition before 18 years old.

For purposes of this priority, the definition of “Developmental Disability” follows the Developmental Disabilities from the Developmental Disabilities Assistance and Bill of Rights Act. The term developmental disability means a severe, chronic disability of an individual that:

(1) Is attributable to a mental or physical impairment or combination of mental and physical impairments;

(2) Is manifested before the individual attains age 22;

(3) Is likely to continue indefinitely;

(4) Results in substantial functional limitations in 3 or more of the following areas of major life activity: self-care; receptive and expressive language; learning; mobility; self-direction; capacity for independent living; economic self-sufficiency; and

(5) Reflects the individual's need for a combination and sequence of special, interdisciplinary, or generic services, individualized supports, or other forms of assistance that are of lifelong or extended duration and are individually planned and coordinated.

Letters of Intent

Due to the open nature of this competition, NIDRR is requiring all potential applicants to submit a Letter of Intent (LOI). Each LOI must be limited to a maximum of four pages and must include the following information: (1) The title of the proposed RRTC, the name of the host institution, the name of the Principal Investigator (PI), and the names of partner institutions and entities; (2) a brief statement of the vision, goals, and objectives of the proposed RRTC and a description of its research and development activities at a sufficient level of detail to allow NIDRR to select potential peer reviewers; (3) a list of proposed RRTC staff including the Center Director and key personnel; and (4) a list of individuals whose selection as a peer reviewer might constitute a conflict of interest due to involvement in proposal development, selection as an advisory board member, co-PI relationships, etc.

The signed, original LOI, or with prior approval an e-mail or facsimile copy, must be received by NIDRR no later than June 9, 2003. Applicants that submit e-mail or facsimile copies must follow up by sending to NIDRR the signed original copy no later than one week after the date the e-mail or facsimile copy was sent. All communications pertaining to the LOI must be sent to: Ruth Brannon, U.S. Department of Education, 400 Maryland Avenue, SW., room 3425, Switzer Building, Washington, DC 20202-2645. For further information regarding the LOI requirement, contact Ruth Brannon at (202) 358-2971 or by e-mail at: ruth.brannon@ed.gov.

Proposed Priorities

The Assistant Secretary proposes to fund up to four RRTCs that will focus on improving the community integration outcomes of persons with disabilities. Each RRTC must:

(1) Identify, develop, and evaluate rehabilitation techniques to address its respective area of research and improve outcomes for its designated population group;

(2) Develop, implement, and evaluate a comprehensive plan for training critical stakeholders, e.g., consumers and their family members, practitioners, service providers, researchers, and policymakers;

(3) Provide technical assistance to critical stakeholders, as appropriate, e.g., consumers and their family members, practitioners, and service providers, to facilitate utilization of research findings in its respective area of research; and

(4) Develop a systematic plan for widespread dissemination of informational materials based on knowledge gained from the Center's research activities, and disseminate the materials to persons with disabilities, their representatives, service providers, and other interested parties.

In addition to the activities proposed by the applicant to carry out these purposes, each RRTC must:

• Conduct a state-of-the-science conference on its respective area of research in the third year of the grant cycle and publish a comprehensive report on the final outcomes of the conference in the fourth year of the grant cycle;

• Coordinate on research projects of mutual interest with relevant NIDRR-funded projects as identified through consultation with the NIDRR project officer;

• Involve individuals with disabilities in planning and implementing its research, training, and dissemination activities, and in evaluating the Center;

• Demonstrate in its application how it will address, in whole or in part, the needs of individuals with disabilities from minority backgrounds.

• Demonstrate how the RRTC project will yield measurable results for people with disabilities;

• Identify specific performance targets and propose outcome indicators, along with time lines to reach these targets; and

• Demonstrate how the RRTC project can transfer research findings to practical applications in planning, policy-making, program administration, and delivery of services to individuals with disabilities.

Each RRTC must focus on one of the following priorities.

(a) Community Integration for Individuals with Intellectual and Developmental Disabilities (I/DD): This Center must conduct qualitative and quantitative research, including the development and implementation of outcome measures, on factors that assist and hinder community integration, self-determination, training, employment, and independent living for persons with I/DD. The references for this topic can be found in the Plan, chapter 6, Independent Living and Community Integration: Independent Living and Community Integration Concepts; Expanding the Theoretical Framework; and Directions of Future Research on Independent Living and Community Integration.

(b) Promoting Healthy Aging and Community Inclusion Among Adults with Intellectual and Developmental Disabilities (I/DD): This Center must conduct epidemiological and community-based research, training, and dissemination activities regarding factors, such as aging, healthcare utilization, and caregiver characteristics, that assist and hinder community integration for adults with intellectual and developmental disabilities. The references for this topic can be found in the Plan, chapter 4, Health and Function: Research on Aging with a Disability; and chapter 6, Independent Living and Community Integration: Independent Living and Community Integration Concepts; Expanding the Theoretical Framework; and Directions of Future Research on Independent Living and Community Integration.

(c) Positive Behavioral Support in Community Settings: This Center must conduct research, training, and dissemination activities on positive behavioral support interventions that assist and sustain community integration efforts for a broad range of individuals with disabilities, including people with mental illness, over time and across systems. Dissemination and training efforts must target community partners, e.g., employers, teachers and coaches, and landlords, as well as individuals with disabilities and their families. The reference for this topic can be found in the Plan, chapter 6, Independent Living and Community Integration: Research on Increasing Personal Development and Adaptation.

(d) Policies Affecting Families of Children with Disabilities: This Center must research and disseminate information on the effects of government, system, network, and agency policies on community integration and quality of life for families who have children with disabilities. The Center also must validate instruments to measure these effects and provide technical assistance, with the goal of improving community integration and quality of life, by: (a) enhancing and coordinating policies between systems and (b) informing and empowering family and peer-based networks and partnerships. The references for this topic can be found in the Plan, chapter 2, Dimensions of Disability: Employment and Independent Living; and chapter 6, Research on Social Roles.

(e) Community Integration for People with Psychiatric Disabilities: This Center must research, disseminate, and provide training on factors, policies, and interventions, such as peer-support models and other innovative treatment approaches, that assist community integration for people with psychiatric disabilities. The target population may include individuals from any age group. The references for this topic can be found in the Plan, chapter 6, Independent Living and Community Integration: Independent Living and Community Integration Concepts; Expanding the Theoretical Framework; and Directions of Future Research on Independent Living and Community Integration.

(f) Substance Abuse: This Center must conduct research, disseminate information, and provide training on community-based interventions, partnerships, and service delivery models that improve community integration outcomes for people with disabilities who are recovering from substance abuse problems. The target population may or may not include individuals with co-occurring disorders such as mental illness. The reference for this topic can be found in the Plan, chapter 2, Dimensions of Disability: Emerging Universe of Disability.

Executive Order 12866

This notice of proposed priorities has been reviewed in accordance with Executive Order 12866. Under the terms of the order, we have assessed the potential costs and benefits of this regulatory action.

The potential costs associated with the notice of proposed priorities are those resulting from statutory requirements and those we have determined as necessary for administering this program effectively and efficiently.

In assessing the potential costs and benefits—both quantitative and qualitative—of this notice of proposed priorities, we have determined that the benefits of the proposed priorities justify the costs.

Summary of potential costs and benefits: The potential cost associated with these proposed priorities is minimal while the benefits are significant. Grantees may anticipate costs associated with completing the application process in terms of staff time, copying, and mailing or delivery. The use of e-Application technology reduces mailing and copying costs significantly.

The benefits of the Rehabilitation Research and Training Center Program have been well established over the years in that similar projects have been completed. These proposed priorities will generate new knowledge through research, dissemination, utilization, training, and technical assistance projects.

The benefit of these proposed priorities and proposed applications and project requirements will be the establishment of new RRTCs that generate, disseminate, and promote the use of new information that will improve the options for disabled individuals to perform regular activities in the community.

Applicable Program Regulations: 34 CFR part 350.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number: 84.133B, Rehabilitation Research and Training Center Program.)

Program Authority: 29 U.S.C. 762(g) and 764(b)(2).

Dated: May 6, 2003.
Robert H. Pasternack,
Assistant Secretary for Special Education and Rehabilitative Services.

[FR Doc. 03-11629 Filed 5-8-03; 8:45 am]

BILLING CODE 4000-01-P